DEPARTMENT OF AGRICULTURE

Farm Service Agency

7 CFR Part 701

RIN 0560-AH71

Emergency Conservation Program

AGENCY: Farm Service Agency, USDA.

ACTION: Final rule.

SUMMARY: This final rule provides the change mandated by the U.S. Troop Readiness, Veterans' Care, Katrina Recovery, and Iraq Accountability Appropriations Act, 2007 (the 2007 Emergency Supplemental). The 2007 Emergency Supplemental provided $16 million for the Emergency Conservation Program (ECP) and required that the Adjusted Gross Income Limitation (AGI) apply to the distribution of the funds.

EFFECTIVE DATE: August 16, 2007.

FOR FURTHER INFORMATION CONTACT: Clayton Furukawa, ECP Program Manager, Conservation and Environmental Programs Division, USDA/FSA/CEPD STOP 0513, 1400 Independence Avenue, SW., Washington, DC 20250-0513, telephone 202-690-0571, e-mail: Clayton.Furukawa@wdc.usda.gov.

SUPPLEMENTARY INFORMATION:

Background

The ECP provides cost-share assistance to farmers and ranchers to rehabilitate farmland damaged by wind erosion, floods, hurricanes, or other natural disasters, and for carrying out emergency water conservation measures during periods of severe drought.

The 2007 Emergency Supplemental (Pub. L. 110-28) appropriated $16 million for the ECP. The 2007 Emergency Supplemental also required that the Adjusted Gross Income (AGI), 7 U.S.C. 1308-3a, apply to this $16 million.

This regulation incorporates the AGI provisions into the ECP. This will be the first time the AGI will be applied to the ECP; however, it has been used with other programs administered by FSA.

The use of the AGI limitation is addressed in the regulations in 7 CFR part 1400, subpart G, Average Adjusted Gross Income Limitation (sections 1400.600—1400.603). Section 1400.600 specifies applicability of the AGI limitation. In general, an individual or entity is not eligible for certain program benefits during a crop, program, or fiscal year, if (1) the preceding three-year average of the AGI for the individual or entity exceeds $2.5 million and (2) less than 75 percent of the average AGI is derived from farming, ranching, or forestry operations. Section 1400.601 specifies the determination of average adjusted gross income. Section 1400.602 specifies the information applicants must provide to comply with the regulations. Section 1400.603 specifies the amount payment will be reduced commensurate with the AGI limitation.

All other aspects of the ECP will continue to operate in the current manner; this change incorporating the AGI limitation will only apply to payment eligibility for the newly-funded $16 million. Other ECP program funds may be available for which the AGI provision does not apply. Other than the addition of the AGI limitation for the newly funded $16 million, current ECP regulations remain unchanged.

Notice and Comment

Due to the non-discretionary nature of this regulatory change, notice and public comment are impracticable, unnecessary, or contrary to the public interest. The 2007 Emergency Supplemental required that FSA apply the AGI to the ECP for payments under the newly-funded $16 million. FSA will apply the AGI as it does for other programs it administers; the current AGI regulations will remain unchanged. Further, allowing the rule to be effective upon publication will allow FSA to fully implement the change and more quickly distribute the $16 million to provide cost-share assistance to farmers and ranchers to rehabilitate farmland damaged by wind erosion, floods, hurricanes, or other natural disasters, and for carrying out emergency water conservation measures during periods of severe drought. Therefore, a proposed rule is not required and this regulatory change is being issued as a final rule.

Executive Order 12866

This rule has been determined to be not significant under Executive Order 12866 and has been reviewed by the Office of Management and Budget.

Regulatory Flexibility Act

This rule is not subject to the Regulatory Flexibility Act since the FSA is not required to publish a notice of proposed rulemaking for this rule.

Environmental Review

FSA has determined that the application of the AGI limitation to distribute certain funds for the Emergency Conservation Program (ECP) does not constitute a major Federal action that would significantly affect the human or natural environment. Consistent with the National Environmental Policy Act (NEPA), 40 CFR part 1502.4, major Federal actions requiring the preparation of Environmental Impact Statements, and 7 CFR Part 799: Environmental Quality and Related Environmental Concerns—Compliance with NEPA implementing the regulations of the Council on Environmental Quality, 40 CFR parts 1500-1508, no environmental assessment or environmental impact statement will be prepared for this final rule.

Executive Order 12372

This program is not subject to the provisions of Executive Order 12372, which requires intergovernmental consultation with State and local officials. See the Notice related to 7 CFR part 3015, subpart V, published at 48 FR 29115 (June 24, 1983).

Executive Order 12612

This rule does not have Federalism implications that warrant the preparation of a Federalism Assessment. This rule will not have a substantial direct effect on States or their political subdivisions or on the distribution of power and responsibilities among the various levels of government.

Executive Order 12988

This rule has been reviewed in accordance with Executive Order 12988. This final rule is not retroactive and it does not preempt State law. Before any judicial action may be brought regarding the provisions of this rule the administrative appeal provisions of 7 CFR parts 11 and 780 must be exhausted.

Unfunded Mandates Reform Act of 1995

This rule contains no Federal mandates under the regulatory provisions of Title II of the UMRA for State, local, and tribal government or the private sector. Therefore, this rule is not subject to the requirements of sections 202 and 205 of the UMRA.

Paperwork Reduction Act

The Office of Management and Budget (OMB) previously approved the information collection requirements of the ECP under OMB control number 0560-0082. This rule will not change those information collection requirements. A separate notice requesting comments was published in the Federal Register on July 26, 2007 (72 FR 41051) for the information collection requirements for the collection of AGI information.

E-Government Act Compliance

FSA is committed to complying with the E-Government Act, to promote the use of the Internet and other information technologies to provide increased opportunities for citizen access to Government information and services, and for other purposes.

Federal Assistance Program

The title and number of the Federal Assistance Program, as found in the Catalog of Federal Domestic Assistance, to which this rule applies are: Emergency Conservation Program (ECP)—10.054.

List of Subjects in 7 CFR Part 701

Agriculture, Disaster assistance, Environmental protection, Forests and forest products, Grant programs—agriculture, Grant programs—natural resources, Reporting and recordkeeping, Rural areas, Soil conservation, Water resources, Wildlife.

Accordingly, amend 7 CFR part 701 as follows:

PART 701—EMERGENCY CONSERVATION PROGRAM AND CERTAIN RELATED PROGRAMS PREVIOUSLY ADMINISTERED UNDER THIS PART

1. Revise the authority citation to read as follows:

Authority: Pub. L. 95-334, 92 Stat. 420, 16 U.S.C. 2201-2205; Pub. L. 109-148, Division B, sec. 101; and Pub. L. 110-28, secs. 9003-9004.

2. Add new § 701.17 to read as follows:

§ 701.17 Average Adjusted Gross Income Limitation

To be eligible for payments issued from the $16 million provided under the U.S. Troop Readiness, Veterans' Care, Katrina Recovery, and Iraq Accountability Appropriations Act, 2007 (Pub. L. 110-28, section 9003), each applicant must meet the provisions of the Adjusted Gross Income Limitations at 7 CFR part 1400 subpart G.

Signed at Washington, DC, on August 9, 2007.
Glen L. Keppy,
Acting Administrator, Farm Service Agency.

[FR Doc. E7-16175 Filed 8-15-07; 8:45 am]

BILLING CODE 3410-05-P